DEPARTMENT OF ENERGY

Federal Energy Regulatory Commission

[Project No. 2493-006]

Puget Sound Energy, Inc.; Notice Granting Late Intervention

June 25, 2004.

On October 20, 1992, the Commission issued a notice of Puget Sound Power & Light Company's ¹ application for a new license for the Snoqualmie Falls Project No. 2493, located on the Snoqualmie River, in the city of Snoqualmie, King County, Washington. The notice established December 23, 1992, as the deadline for filing motions to intervene in the proceeding.

¹ Subsequently, on March 19, 1997, Puget Sound Power & Light Company advised the Commission that it had changed its name to Puget Sound Energy, Inc.

On May 26, 2004, American Whitewater Affiliation filed a motion for late intervention in the proceeding. Granting the late motion to intervene will not unduly delay or disrupt the proceeding or prejudice other parties to it. Therefore, pursuant to Rule 214,² the motion to intervene filed in this proceeding by American Whitewater Affiliation is granted, subject to the Commission's rules and regulations.

² 18 CFR 385.214 (2004).

This notice constitutes final agency action. Requests for rehearing by the Commission may be filed within 30 days of the issuance of this notice, pursuant to 18 CFR 385.713.

Magalie R. Salas,
Secretary.

[FR Doc. E4-1449 Filed 6-30-04; 8:45 am]

BILLING CODE 6717-01-P